DEPARTMENT OF ENERGY

Federal Energy Regulatory Commission

Combined Notice of Filings

Take notice that the Commission has received the following Natural Gas Pipeline Rate and Refund Report filings:

Docket Numbers: RP10-996-000.

Applicants: Dominion Cove Point LNG, LP.

Description: Report Filing: DECP—2020 Report of Operational Sales and Purchases of Gas.

Filed Date: 7/31/20.

Accession Number: 20200731-5140.

Comments Due: 5 p.m. ET 8/12/20.

Docket Numbers: RP20-1065-000.

Applicants: Gulf South Pipeline Company, LLC.

Description: § 4(d) Rate Filing: Non-conforming Agreement Filing (FPL 52300) to be effective 9/1/2020.

Filed Date: 7/31/20.

Accession Number: 20200731-5079.

Comments Due: 5 p.m. ET 8/12/20.

Docket Numbers: RP20-1066-000.

Applicants: Gulf South Pipeline Company, LLC.

Description: § 4(d) Rate Filing: Cap Rel Neg Rate Agmt (Southern 49811 to FPL 52934) to be effective 8/1/2020.

Filed Date: 7/31/20.

Accession Number: 20200731-5083.

Comments Due: 5 p.m. ET 8/12/20.

Docket Numbers: RP20-1067-000.

Applicants: Gulf South Pipeline Company, LLC.

Description: § 4(d) Rate Filing: Cap Rel Neg Rate Agmts (Marathon 51753, 51754 to Spire 52973, 52974) to be effective 8/1/2020.

Filed Date: 7/31/20.

Accession Number: 20200731-5089.

Comments Due: 5 p.m. ET 8/12/20.

Docket Numbers: RP20-1068-000.

Applicants: Gulf South Pipeline Company, LLC.

Description: § 4(d) Rate Filing: Cap Rel Neg Rate Agmt (Constellation 52943 to Exelon 52978) to be effective 8/1/2020.

Filed Date: 7/31/20.

Accession Number: 20200731-5090.

Comments Due: 5 p.m. ET 8/12/20.

Docket Numbers: RP20-1069-000.

Applicants: Gulf South Pipeline Company, LLC.

Description: Compliance filing Negotiated Rate Agmt Compliance Filing in Docket No. CP19-125 (Aethon 52454) to be effective 9/1/2020.

Filed Date: 7/31/20.

Accession Number: 20200731-5091.

Comments Due: 5 p.m. ET 8/12/20.

Docket Numbers: RP20-1070-000.

Applicants: Southwest Gas Storage Company.

Description: § 4(d) Rate Filing: Implement Market Based Rates East Area to be effective 9/1/2020.

Filed Date: 7/31/20.

Accession Number: 20200731-5092.

Comments Due: 5 p.m. ET 8/12/20.

Docket Numbers: RP20-1071-000.

Applicants: Dominion Energy Transmission, Inc.

Description: § 4(d) Rate Filing: DETI—July 31, 2020 Nonconforming Service Agreements to be effective 9/1/2020.

Filed Date: 7/31/20.

Accession Number: 20200731-5103.

Comments Due: 5 p.m. ET 8/12/20.

Docket Numbers: RP20-1072-000.

Applicants: Transcontinental Gas Pipe Line Company, LLC.

Description: § 4(d) Rate Filing: Rate Schedule S-2 Tracker Filing eff 8-1-2020 to be effective 8/1/2020.

Filed Date: 7/31/20.

Accession Number: 20200731-5105.

Comments Due: 5 p.m. ET 8/12/20.

Docket Numbers: RP20-1073-000.

Applicants: Viking Gas Transmission Company.

Description: § 4(d) Rate Filing: Non-Conforming Agreement AF0357—American Crystal Sugar Company to be effective 9/1/2020.

Filed Date: 7/31/20.

Accession Number: 20200731-5107.

Comments Due: 5 p.m. ET 8/12/20.

Docket Numbers: RP20-1074-000.

Applicants: Northern Natural Gas Company.

Description: § 4(d) Rate Filing: 20200731 Negotiated Rate Filing to be effective 8/1/2020.

Filed Date: 7/31/20.

Accession Number: 20200731-5111.

Comments Due: 5 p.m. ET 8/12/20.

Docket Numbers: RP20-1075-000.

Applicants: Midship Pipeline Company, LLC.

Description: § 4(d) Rate Filing: Housekeeping/Imbalance Clarification to be effective 9/1/2020.

Filed Date: 7/31/20.

Accession Number: 20200731-5116.

Comments Due: 5 p.m. ET 8/12/20.

Docket Numbers: RP20-1076-000.

Applicants: Algonquin Gas Transmission, LLC.

Description: § 4(d) Rate Filing: Negotiated Rate—Amended Boston Gas 510798 to be effective 8/1/2020.

Filed Date: 7/31/20.

Accession Number: 20200731-5133.

Comments Due: 5 p.m. ET 8/12/20.

Docket Numbers: RP20-1077-000.

Applicants: Columbia Gas Transmission, LLC.

Description: § 4(d) Rate Filing: Aug 20 Amends and Agree to be effective 8/1/2020.

Filed Date: 7/31/20.

Accession Number: 20200731-5156.

Comments Due: 5 p.m. ET 8/12/20.

Docket Numbers: RP20-1078-000.

Applicants: NEXUS Gas Transmission, LLC.

Description: § 4(d) Rate Filing: Negotiated Rates—Columbia Gas 860005 8-1-2020 releases to be effective 8/1/2020.

Filed Date: 7/31/20.

Accession Number: 20200731-5171.

Comments Due: 5 p.m. ET 8/12/20.

Docket Numbers: RP20-1079-000.

Applicants: Rockies Express Pipeline LLC.

Description: § 4(d) Rate Filing: REX 2020-07-31 Negotiated Rate Agreements to be effective 8/1/2020.

Filed Date: 7/31/20.

Accession Number: 20200731-5203.

Comments Due: 5 p.m. ET 8/12/20.

Docket Numbers: RP20-1080-000.

Applicants: Dominion Energy Overthrust Pipeline, LLC.

Description: Annual Fuel Gas Reimbursement Report of Dominion Energy Overthrust Pipeline, LLC under RP20-1080.

Filed Date: 7/31/20.

Accession Number: 20200731-5251.

Comments Due: 5 p.m. ET 8/12/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2020.
Nathaniel J. Davis, Sr.,
Deputy Secretary.

[FR Doc. 2020-17318 Filed 8-6-20; 8:45 am]

BILLING CODE 6717-01-P